DEPARTMENT OF TRANSPORTATION

Federal Aviation Administration

[Docket No. FAA-2022-0222]

Agency Information Collection Activities: Requests for Comments; Clearance of a Renewed Approval of Information Collection: Survey of Airman Satisfaction With Aeromedical Certification Services

AGENCY: Federal Aviation Administration (FAA), DOT.

ACTION: Notice and request for comments.

SUMMARY: In accordance with the Paperwork Reduction Act of 1995, FAA invites public comments about our intention to request the Office of Management and Budget (OMB) approval to renew an information collection. The collection involves soliciting feedback from airmen on service quality of Aeromedical Certification Services. The information to be collected will be used to inform improvements in Aeromedical Certification Services.

DATES: Written comments should be submitted by October 19, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Dr. Kylie N. Key by email at: kylie.n.key@faa.gov; phone: (405) 954-6839.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0707.

Title: Survey of Airman Satisfaction with Aeromedical Certification Services.

Form Numbers: N/A.

Type of Review: Renewal of an information collection.

Background: The Federal Register Notice with a 60-day comment period soliciting comments on the following collection of information was published on March 14, 2022 (87 FR 49). No comments were received. The Federal Aviation Administration (FAA), through the Office of Aerospace Medicine (OAM), is responsible for the medical certification of pilots and certain other personnel under 14 CFR 67 to ensure they are medically qualified to operate aircraft and perform their duties safely. In the accomplishment of this responsibility, OAM provides a number of services to pilots, and has established goals for the performance of those services. This is a biennial survey designed to meet the requirement to survey stakeholder satisfaction under Executive Order No. 12862, “Setting Customer Service Standards,” and the Government Performance and Results Act of 1993 (GPRA).

The survey of Airman Satisfaction with Aeromedical Certification Services assesses airman opinion of key dimensions of service quality. These dimensions, identified by the OMB Statistical Policy Office in the 1993 “Resource Manual for Customer Surveys,” are courtesy, competence, reliability, and communication. The survey also provides airmen with the opportunity to provide feedback on the services and a medical certificate application tool they use. This information is used to inform improvements in Aeromedical Certification Services.

The survey was initially deployed in 2004, and deployed again in 2006, 2008, 2012, 2014, 2016, 2019, and 2021 (OMB Control No. 2120-0707). Across collections, minor revisions have been made to the survey items and response options to reflect changes in operational services and survey technology. To reduce the burden on the individual respondent and potentially improve the response rate, this information collection will be electronic.

Respondents: Approximately 4,300 Airmen.

Frequency: Biannually.

Estimated Average Burden per Response: 15 minutes.

Estimated Total Annual Burden: 15 minutes per respondent, 950 total burden hours.

Issued in Oklahoma City, Oklahoma on September 14, 2022.
Ashley Catherine Awwad,
Management & Program Analyst, Civil Aerospace Medical Institute (CAMI), Flight Deck Human Factors Research Lab, AAM-510.

[FR Doc. 2022-20233 Filed 9-16-22; 8:45 am]

BILLING CODE 4910-13-P